DEPARTMENT OF VETERANS AFFAIRS

[OMB Control No. 2900-0793]

Agency Information Collection Activity Under OMB Review: VA Health Professional Scholarship Programs (HPSP, VIOMPSP, VHVMAESP and EACFMAF)

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0793.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0793” in any correspondence.

SUPPLEMENTARY INFORMATION:

Authority: 44 U.S.C. 3501-3521.

Title: VA Health Professional Scholarship Programs (HPSP, VIOMPSP, VHVMAESP and EACFMAF)—VA Forms 10-0491, 10-0491a, 10-0491c—n.

OMB Control Number: 2900-0793.

Type of Review: Revision of a currently approved collection.

Abstract: This is a currently approved collection of forms used by VHA to administer health care professional scholarship programs. The Department of Veterans Affairs (VA) Health Professional Scholarship Program (HPSP) and the VA Visual Impairment and Orientation and Mobility Professionals Scholarship Program (VIOMPSP) were authorized under Public Law 111-163 on May 5, 2010, and extended through December 31, 2033, by Section 301 of Public Law 115-182, VA Mission Act of 2018. On June 6, 2018, section 304 of Public Law 115-182, the John S. McCain III, Daniel K. Akaka, and Samuel R. Johnson VA Maintaining Internal Systems and Strengthening Integrated Outside Networks Act of 2018, or the VA MISSION Act of 2018, established the Veterans Healing Veterans Medical Access and Education Scholarship Program (VHVMAESP). The VA Educational Assistance for Certain Former Members of the Armed Forces (EACFMAF) Program was authorized under section 246 of Public Law 115-141, Consolidated Appropriations Act of 2018. Legal authority for this data collection is also found under 38 U.S.C., Part I, Chapter 5, § 527, which authorizes the collection of data that will allow measurement and evaluation of VA programs, the goal of which is improved health care for Veterans, and under 38 CFR 17.600-17.612 (HPSP), § 17.625-17.636 (VIOMPSP), § 17.613-17.618 (VHVMAESP), and § 17.535-17.539 (EACFMAF).

These programs help address health care workforce needs and allow VA to provide services to the public by awarding scholarships to non-VA employees who will be required to become VA employees in the professions for which they were educated under these programs. This information collection is necessary for VA to determine an applicant's eligibility to receive a scholarship award and compliance with program requirements.

1. Academic Verification, VA Form 10-0491.

2. Addendum to Application, VA Form 10-0491a.

3. Annual VA Employment Deferment Verification, VA Form 10-0491c.

4. Education Program Completion Notice—Service Obligation Placement, VA Form 10-0491d.

5. Evaluation Recommendation Form, VA Form 10-0491e.

6. HPSP and EACFMAF Agreement, VA Form 10-0491f.

7. Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

13. Mobility Agreement, VA Form 10-0491m.

14. VHVMAESP Agreement, VA Form 10-0491n.

Each program uses the forms in this collection for applications, verifications, recommendations, etc. However, there are distinct Agreement forms for specific programs, which will be used by scholarship awardees for the appropriate program.

An agency may not conduct or sponsor, and a person is not required to respond to a collection of information unless it displays a currently valid OMB control number. The Federal Register Notice with a 60-day comment period soliciting comments on this collection of information was published at 87 FR 237 on December 12, 2022, pages 76102 and 76103.

Total Annual Number of Responses = 1,950.

Total Annual Time Burden = 7,619 hours.

HPSP

Affected Public: Individuals or households.

Estimated Annual Burden: 6,687 hours.

Estimated Average Burden Per Respondent: 3.93 hours.

Frequency of Response: Once annually.

Estimated Number of Respondents: 1,700.

VIOMPSP

Affected Public: Individuals or households.

Estimated Annual Burden: 304 hours.

Estimated Average Burden per Respondent: 3.04 hours.

Frequency of Response: Once annually.

Estimated Number of Respondents: 100.

VHVMAESP

Affected Public: Individuals or households.

Estimated Annual Burden: 216 hours.

Estimated Average Burden per Respondent: 4.32 hours.

Frequency of Response: Once annually.

Estimated Number of Respondents: 50.

EACFMAF

Affected Public: Individuals or households.

Estimated Annual Burden: 412 hours.

Estimated Average Burden per Respondent: 4.12 hours.

Frequency of Response: Once annually.

Estimated Number of Respondents: 100.

By direction of the Secretary.
Maribel Aponte,
VA PRA Clearance Officer, Office of Enterprise and Integration, Data Governance Analytics, Department of Veterans Affairs.

[FR Doc. 2023-03276 Filed 2-15-23; 8:45 am]

BILLING CODE 8320-01-P